NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 21, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001 E-mail: request.schedule@nara.gov. FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Grain Inspection, Packers and Stockyard Administration (N1-545-08-19, 1 item, 1 temporary item). Records relating to the use of Government-issued travel cards. The proposed disposition instructions are limited to paper records.

2. Department of Defense, Office of the Secretary of Defense (N1-330-08-11, 2 items, 1 temporary item). Paper copies of records of the Under Secretary of Defense for Intelligence accumulated between 2001 and 2006. Proposed for permanent retention is an electronic version of these files.

3. Department of Defense, Defense Commissary Agency (N1-506-07-5, 29 items, 29 temporary items). Records relating to commissary operations including purchase, processing and distribution. Included are records related to property, access, receipting, accountability, maintenance, reporting, daily operations, stores, promotions, quality assurance, and similar operational functions.

4. Department of Defense, Defense Logistics Agency (N1-361-09-1, 1 item, 1 temporary item). Security video recordings used to monitor activities in agency child and youth programs.

5. Department of Defense, Joint Staff (N1-218-09-1, 2 items, 2 temporary items). Master files and reports associated with an electronic system that tracks information on agency witnesses appearing before congressional committees.

6. Department of Health and Human Services, Food and Drug Administration (N1-88-04-2, 11 items, 7 temporary items). Legislative and regulatory records, including congressional correspondence relating to constituent requests; congressional hearing background files; legislation and hearing reference files; Federal Register notice files; and non-substantial administrative and rulemaking dockets and associated tracking data. Proposed for permanent retention are congressional correspondence not related to constituent requests, evidentiary hearing materials, and substantial administrative and rulemaking dockets and associated tracking data. The proposed disposition instructions for the tracking data are limited to electronic records.

7. Department of Homeland Security, Counterintelligence and Investigations Division (N1-563-08-4, 3 items, 3 temporary items). Case files for investigations into potential espionage within the agency or crimes against the agency's property or personnel and files relating to information or allegations that do not relate to specific investigations.

8. Department of the Interior, National Park Service (N1-79-08-1, 6 items, 3 temporary items). Resource management and land records that do not meet the criteria for permanent retention specified in the schedule. Proposed for permanent retention are records relating to significant policies and procedures, and those documenting land and resource acquisition and use, environmental concerns and water rights, archaeological matters, historic sites and structures, plant and animal life, and geological features.

9. Department of Justice, Office of the Federal Detention Trustee (N1-60-09-2, 5 items, 5 temporary items). Master files for electronic information systems used to automate the process of designating prisoners to appropriate correctional facilities. Systems include data for locating and inspecting facility space, designating prisoners, and establishing intergovernmental agreements for Federal usage of non-Federal facilities.

10. Department of the Navy, Naval Criminal Investigative Service (N1-NU-08-3, 5 items, 5 temporary items). Reports, briefings, bulletins, analyses, summaries and similar products relating to possible security threats not rising to the level of counterintelligence assessments.

11. Department of the Navy, Naval Criminal Investigative Service (N1-NU-08-4, 2 items, 2 temporary items). Applications, responses, investigations, reports, correspondence, and other records related to personnel inquiries and non-criminal investigations.

12. Department of the Navy, U.S. Marine Corps (N1-127-08-2, 1 item, 1 temporary item). Master files of an electronic information system that contains data concerning facilities, including readiness, quality, and cost estimates for improvements and maintenance.

13. Department of the Navy, U.S. Marine Corps (N1-127-08-5, 1 item, 1 temporary item). Master files of an electronic information system that contains data concerning operational costs for facilities.

14. Department of the Treasury, Departmental Offices (N1-56-09-1, 1 item, 1 temporary item). Master files for an electronic information system that is used to manage payments of certain Federal and District of Columbia retirement benefits.

15. Nuclear Regulatory Commission, Agency-wide (N1-431-08-16, 2 items, 2 temporary items). Master files maintaining interim or supplemental documentation relating to agency electronic information systems.

16. Nuclear Regulatory Commission, Office of Nuclear Regulatory Research (N1-431-08-13, 2 items, 2 temporary items). Master files and outputs for the Research Information Management System, which tracks procurement activities and deliverables.

Dated: December 17, 2008.
Michael J. Kurtz,
Assistant Archivist for Records Services—Washington, DC.

[FR Doc. E8-30427 Filed 12-19-08; 8:45 am]

BILLING CODE 7515-01-P